ENVIRONMENTAL PROTECTION AGENCY

[FRL-9972-43-Region 4]

Notice of Final National Pollutant Discharge Elimination System (NPDES) General Permit for the Eastern Portion of the Outer Continental Shelf (OCS) of the Gulf of Mexico (GEG460000); Availability of Finding of No Significant Impact

AGENCY: Environmental Protection Agency (EPA).

ACTION: Notice of Reissuance of NPDES General Permit.

SUMMARY: Today, the EPA Region 4 (the “Region”) is reissuing the National Pollutant Discharge Elimination System (NPDES) general permit for the Outer Continental Shelf (OCS) of the Gulf of Mexico (General Permit No. GEG460000) for new and existing source discharges in the Offshore Subcategory of the Oil and Gas Extraction Point Source Category. This reissued general permit replaces the previous permit issued on March 15, 2010, and which became effective on April 1, 2010, and expired on March 31, 2015. The general permit authorizes discharges from exploration, development, and production facilities located in and discharging to all Federal waters of the eastern portion of the Gulf of Mexico seaward of the outer boundary of the territorial seas, and covers existing and new source facilities with operations located on Federal leases occurring in water depths seaward of 200 meters, occurring offshore the coasts of Alabama and Florida. The western boundary of the coverage area is demarcated by Mobile and Visoca Knoll lease blocks located seaward of the outer boundary of the territorial seas from the coasts of Mississippi and Alabama. The permit term will be no longer than five years from the effective date of the permit. Individual permits will be issued for operating facilities on lease blocks traversed by and shoreward of the 200-meter water depth.

The draft NPDES general permit was publicly noticed from August 18, 2016 to September 17, 2016. This final permit reflects changes based on comments received during the public comments period, which are detailed in the Amendment to the Fact Sheet.

DATES: This action is applicable as of January 20, 2018.

ADDRESSES: The final NPDES general permit, Amendment to the Permit fact sheet, Finding of No Significant Impact document, Final Essential Fish Habitat Determination, Final Ocean Discharge Criteria Evaluation, and other relevant documents may be obtained by writing the U.S. EPA-Region 4, Water Protection Division (WPD), NPDES Section, Sam Nunn Atlanta Federal Center, 61 Forsyth Street SW, Atlanta, Georgia 30303-8960, Attention: Ms. Bridget Staples. Alternatively, copies of the above-mentioned documents may be downloaded at: https://www.epa.gov/aboutepa/about-epa-region-4-southeast#r4-public-notices.

FOR FURTHER INFORMATION CONTACT: Ms. Bridget Staples, EPA Region 4, WPD, NPDES Section, by mail at the Atlanta address given above, by telephone at (404) 562-9783 or by email at Staples.Bridget@epa.gov.

SUPPLEMENTARY INFORMATION:

Authorization To Discharge Under the National Pollutant Discharge Elimination System

In compliance with the Federal Water Pollution Control Act, as amended (33 U.S.C. 1251 et seq.), operators of offshore oil and gas facilities in lease blocks located in Outer Continental Shelf (OCS) Federal water in the eastern portion of the Gulf of Mexico seaward of the outer boundary of the territorial seas in water depths seaward of 200 meters, occurring offshore the coasts of Alabama and Florida and in the western boundary of the coverage area demarcated by Mobile and Visoca Knoll lease blocks located seaward of the outer boundary of the territorial seas from the coasts of Mississippi and Alabama, are authorized to discharge to receiving waters in accordance with effluent limitations, monitoring requirements, and other conditions set forth in Parts I, II, III, IV and V, and appendices.

Operators of facilities within the NPDES general permit coverage area must submit a Notice of Intent (NOI) to the Regional Administrator, prior to discharge, that they intend to be covered by the general permit (See Part I.A.4). The effective date of coverage will be the postmarked date of the NOI, or if the postmarked date is illegible, the effective date of coverage will be two days prior to the receipt date of the NOI.

Administratively continued coverages under the previous NPDES general permit will cease for operators 30 days after the effective date of the new permit. Therefore, such operators must submit a new NOI to be covered under this general permit within 30 days after the effective date of this permit. If a permit application for an individual permit is filed, the coverage under the previous general permit terminates when a final action is taken on the application for an individual permit.

This permit and the authorization to discharge shall expire midnight, Eastern Standard Time, five years from the effective date.

Dated: December 14, 2017.
Mary Walker,
Director, Water Protection Division, U.S. EPA, Region 4.

[FR Doc. 2017-27947 Filed 12-26-17; 8:45 am]

BILLING CODE 6560-50-P